DEPARTMENT OF COMMERCE

Foreign-Trade Zones Board

[B-5-2025]

Foreign-Trade Zone (FTZ) 205; Withdrawal of Notification of Proposed Production Activity; Rincon Power, LLC; (Contactors, Relays and Switches); Carpinteria, California

Notice is hereby given of the withdrawal of the notification of proposed production activity submitted by Rincon Power, LLC for its facility in Carpinteria, California, within FTZ 205. The notification was docketed on January 30, 2025 (90 FR 9133-9134, February 7, 2025). The withdrawal was requested by Rincon Power, LLC on February 5, 2025.

Dated: February 7, 2025.
Elizabeth Whiteman,
Executive Secretary.

[FR Doc. 2025-02550 Filed 2-12-25; 8:45 am]

BILLING CODE 3510-DS-P